INTERNATIONAL TRADE COMMISSION

[Investigation Nos. 731-TA-344, 391-A, 392-A and C, 393-A, 394-A, 396, and 399-A (Second Review)]

Certain Bearings From China, France, Germany, Italy, Japan, Singapore, and the United Kingdom

AGENCY: United States International Trade Commission.

ACTION: Revised schedule for the subject five-year reviews.

DATES: Effective Date: May 4, 2006.

FOR FURTHER INFORMATION CONTACT: Debra Baker (202-205-3180), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these reviews may be viewed on the Commission's electronic docket (EDIS) at http://edis.usitc.gov.

SUPPLEMENTARY INFORMATION: On October 12, 2005, the Commission established its schedule for the conduct of the subject five-year reviews (70 FR 60556, October 18, 2005) and subsequently revised its schedule (70 FR 75482, December 20, 2005). The Commission hereby gives notice that it is further revising the schedule for its final determinations in the subject five-year reviews.

The Commission's schedule is revised as follows: The posthearing briefs are due May 15, 2006; the closing of the record and final release of information is July 24, 2006; and final comments on this information are due on or before July 27, 2006.

For further information concerning these review investigations see the Commission's notices cited above and the Commission's Rules of Practice and Procedure, part 201, subparts A through E (19 CFR part 201), and part 207, subparts A and C (19 CFR part 207).

Authority: These five-year reviews are being conducted under authority of title VII of the Tariff Act of 1930; this notice is published pursuant to section 207.21 of the Commission's rules.

By order of the Commission.
Issued: May 5, 2006.
Marilyn R. Abbott,
Secretary to the Commission.

[FR Doc. E6-7152 Filed 5-10-06; 8:45 am]

BILLING CODE 7020-02-P